DEPARTMENT OF COMMERCE

International Trade Administration

[A-570-012]

Carbon and Certain Alloy Steel Wire Rod From the People's Republic of China: Antidumping Duty Order

AGENCY: Enforcement and Compliance, International Trade Administration, Department of Commerce.

SUMMARY: Based on affirmative final determinations by the Department of Commerce (the Department) and the International Trade Commission (the ITC), the Department is issuing an antidumping duty order on carbon and certain alloy steel wire rod (steel wire rod) from the People's Republic of China (PRC).

DATES: Effective Date: January 8, 2015.

FOR FURTHER INFORMATION CONTACT: Brian Smith or Brandon Custard, AD/CVD Operations, Office II, Enforcement and Compliance, International Trade Administration, U.S. Department of Commerce, 14th Street and Constitution Avenue NW., Washington, DC 20230; telephone: (202) 482-1766 or (202) 482-1823, respectively.

SUPPLEMENTARY INFORMATION:

Background

In accordance with sections 735(d) and 777(i)(1) of the Tariff Act of 1930, as amended (the Act) and 19 CFR 351.210(c), on November 19, 2014, the Department published its affirmative final determination of sales at less-than-fair-value in the antidumping duty investigation of steel wire rod from the PRC, and its affirmative final determination that critical circumstances exist, in part.¹ On January 2, 2015, the ITC notified the Department of its final determination that an industry in the United States is materially injured within the meaning of section 735(b)(1)(A)(i) of the Act by reason of less-than-fair-value imports of steel wire rod from the PRC.² The ITC also determined that critical circumstances do not exist with respect to imports subject to the Department's critical circumstances determination, within the meaning of section 735(b)(4)(A) of the Act.³

¹ See Carbon and Certain Alloy Steel Wire Rod From the People's Republic of China: Final Determination of Sales at Less Than Fair Value and Final Affirmative Determination of Critical Circumstances, in Part, 79 FR 68860 (November 19, 2014) (Final Determination).

² See Carbon and Certain Alloy Steel Wire Rod From the People's Republic of China, Investigation Nos. 701-TA-512 and 731-TA-1248 (Final), USITC Publication 4509, December 2014.

³ Id.

Scope of the Order

The scope of this order covers certain hot-rolled products of carbon steel and alloy steel, in coils, of approximately circular cross section, less than 19.00 mm in actual solid cross-sectional diameter. Specifically excluded are steel products possessing the above-noted physical characteristics and meeting the Harmonized Tariff Schedule of the United States (HTSUS) definitions for (a) stainless steel; (b) tool steel; (c) high nickel steel; (d) ball bearing steel; or (e) concrete reinforcing bars and rods. Also excluded are free cutting steel (also known as free machining steel) products (i.e., products that contain by weight one or more of the following elements: 0.1 percent or more of lead, 0.05 percent or more of bismuth, 0.08 percent or more of sulfur, more than 0.04 percent of phosphorus, more than 0.05 percent of selenium, or more than 0.01 percent of tellurium). All products meeting the physical description of subject merchandise that are not specifically excluded are included in this scope.

The products under order are currently classifiable under subheadings 7213.91.3011, 7213.91.3015, 7213.91.3020, 7213.91.3093; 7213.91.4500, 7213.91.6000, 7213.99.0030, 7227.20.0030, 7227.20.0080, 7227.90.6010, 7227.90.6020, 7227.90.6030, and 7227.90.6035 of the HTSUS. Products entered under subheadings 7213.99.0090 and 7227.90.6090 of the HTSUS also may be included in this scope if they meet the physical description of subject merchandise above. Although the HTSUS subheadings are provided for convenience and customs purposes, the written description of the scope of this order is dispositive.

Antidumping Duty Order

As stated above, on January 2, 2015, in accordance with section 735(d) of the Act, the ITC notified the Department of its final determination in this investigation, in which it found material injury with respect to imports of steel wire rod from the PRC.⁴ Because the Department determined that imports of steel wire rod from the PRC are being sold at less-than-fair value, and because the ITC determined that such imports are materially injuring a U.S. industry, all unliquidated entries of such merchandise from the PRC, entered or withdrawn from warehouse, are subject to the assessment of antidumping duties.

⁴ Id.

Therefore, in accordance with section 736(a)(1) of the Act, the Department will direct U.S. Customs and Border Protection (CBP) to assess, upon further instruction by the Department, antidumping duties equal to the amounts listed below for all relevant entries of steel wire rod from the PRC. These antidumping duties will be assessed on unliquidated entries of steel wire rod from the PRC entered, or withdrawn from warehouse, for consumption on or after September 8, 2014, the date of publication of the Preliminary Determination.⁵

⁵ See Carbon and Certain Alloy Steel Wire Rod From the People's Republic of China: Preliminary Determination of Sales at Less Than Fair Value and Preliminary Determination of Critical Circumstances, in Part, 79 FR 53169 (September 8, 2014) (Preliminary Determination).

Continuation of Suspension of Liquidation

In accordance with section 735(c)(1)(B) of the Act, we will instruct CBP to continue to suspend liquidation on all entries of steel wire rod from the PRC. We will also instruct CBP to require cash deposits equal to the amounts as indicated below. These instructions suspending liquidation will remain in effect until further notice.

Accordingly, effective on the date of publication of the ITC's final affirmative injury determination, CBP will require, at the same time as importers would normally deposit estimated duties on this subject merchandise, a cash deposit equal to the estimated weighted-average antidumping duty margins listed below.⁶ For the purpose of determining cash deposit rates, the estimated weighted-average dumping margins for imports of subject merchandise from the PRC will be adjusted, as appropriate, for export subsidies found in the final determination of the companion countervailing duty investigation of this merchandise imported from the PRC.⁷

⁶ See section 736(a)(3) of the Act.

⁷ See Final Determination, 79 FR at 68861. See also Carbon and Certain Alloy Steel Wire Rod From the People's Republic of China: Final Affirmative Countervailing Duty Determination and Final Affirmative Critical Circumstances Determination, 79 FR 68858 (November 19, 2014) (CVD Final Determination).

The weighted-average dumping margins are as follows:

Exporter | Producer | Weighted-Average dumping margin ⁸ (percent)
Rizhao Steel Wire Co., Ltd. | Rizhao Steel Wire Co., Ltd. | 106.19
Hunan Valin Xiangtan Iron & Steel Co., Ltd. | Hunan Valin Xiangtan Iron & Steel Co., Ltd. | 106.19
Jiangsu Shagang International Trade Co., Ltd. | Zhangjiagang Shajing Steel Co., Ltd. | 106.19
Jiangsu Shagang International Trade Co., Ltd. | Zhangjiagang Runzhong Steel Co., Ltd. | 106.19
Jiangsu Shagang International Trade Co., Ltd. | Zhangjiagang Hongxing Gaoxian Co., Ltd. | 106.19
Jiangsu Shagang International Trade Co., Ltd. | Zhangjiagang Rongsheng Steel-Making Co., Ltd. | 106.19
Jiangsu Shagang International Trade Co., Ltd. | Jiangsu Runzhong High-Tech Co., Ltd. | 106.19
Jiangsu Shagang International Trade Co., Ltd. | Zhangjiagang Hongchang Gaoxian Co., Ltd. | 106.19
PRC-wide Entity* |  | 110.25
* The PRC-wide entity includes, among other companies, Benxi Beiying Iron and Steel Group Imp. and Exp. Corp. Ltd.,⁹ Tangshan Iron and Steel Group Co. Ltd., Angang Group International Trade Corporation, Qingdao Iron and Steel Co., Ltd., Jiangsu Yonggang Group Co. Ltd., and Baotou Steel International Economic & Trading Co., Ltd.¹⁰

Critical Circumstances

With regard to the ITC's negative critical circumstances determination on imports of steel wire rod from the PRC, we will instruct CBP to lift suspension and refund any cash deposits made to secure the payment of estimated antidumping duties with respect to entries of subject merchandise entered or withdrawn from warehouse, for consumption on or after June 10, 2014 (i.e., 90 days prior to the date of publication of the Preliminary Determination), but before September 8, 2014, (i.e., the date of the publication of the Preliminary Determination).

⁸ As explained in the Final Determination, the estimated weighted average dumping margin for the separate companies and the PRC-wide Entity will be adjusted for export subsidies. See Final Determination, 79 FR at 68861. As a result of the adjustment for export subsidies, the cash deposit rate for the separate rate companies will be 93.18 percent and 97.24 percent for the PRC-wide entity. For information regarding these export subsidies, see CVD Final Determination and accompanying Issues and Decision Memorandum at 9-10 and Attachment entitled “Description of Programs.”

⁹ For the reasons explained in the Preliminary Determination, the Department finds it appropriate to consider Bei Tai Iron and Steel Group Imp. and Exp. (Dalian) Co., Ltd. a part of Benxi Beiying Iron and Steel Group Imp. and Exp. Corp. Ltd. See Preliminary Determination, and accompanying Preliminary Decision Memorandum at 9.

¹⁰ For the reasons explained in the Preliminary Determination, the Department did not find these companies eligible for a separate rate. See Preliminary Determination, and accompanying Preliminary Decision Memorandum at 8-11.

Notification to Interested Parties

This notice constitutes the antidumping duty order with respect to steel wire rod from the PRC pursuant to section 736(a) of the Act. Interested parties may contact the Department's Central Records Unit, Room 7046 of the main Commerce Building, for copies of an updated list of antidumping duty orders currently in effect.

This order is published in accordance with section 736(a) of the Act and 19 CFR 351.211.

Dated: January 2, 2015.
Ronald K. Lorentzen,
Acting Assistant Secretary for Enforcement and Compliance.

[FR Doc. 2015-00096 Filed 1-7-15; 8:45 am]

BILLING CODE 3510-DS-P